ENVIRONMENTAL PROTECTION AGENCY

[EPA-HQ-OAR-2023-0614; FRL-11723-02-OAR]

Technical Documentation for the Framework for Evaluating Damages and Impacts (FrEDI); Extension of Comment Period

AGENCY: Environmental Protection Agency (EPA).

ACTION: Notice of document availability and request for comments; extension of public comment period.

SUMMARY: On February 23, 2024, the Environmental Protection Agency (EPA) published a draft document titled, “Technical Documentation for the Framework for Evaluating Damages and Impacts (FrEDI)” (EPA 430-R-24-001). The EPA is extending the comment period.

DATES: The comment period for the document published on February 23, 2024, at 89 FR 13717, is extended. Comments must be received on or before April 24, 2024.

ADDRESSES: Submit your comments, identified by Docket ID No. EPA-HQ-OAR-2023-0614, to the Federal Portal: https://www.regulations.gov. Follow the online instructions for submitting comments. Once submitted, comments cannot be edited or withdrawn. Do not submit electronically any information you consider to be Confidential Business Information (CBI). EPA may publish any comment received to its public docket, submitted, or sent via email. For additional submission methods, the full EPA public comment policy, information about CBI, and general guidance on making effective comments, please visit https://www.epa.gov/dockets/commenting-epa-dockets.

FOR FURTHER INFORMATION CONTACT: Mr. Jeremy Martinich, Environmental Protection Agency, Office of Air and Radiation, Office of Atmospheric Protection, Climate Change Division, (202) 343-9871, cira@epa.gov.

SUPPLEMENTARY INFORMATION: On February 23, 2024, the Environmental Protection Agency (EPA) published a draft document titled, “Technical Documentation for the Framework for Evaluating Damages and Impacts (FrEDI)” (EPA 430-R-24-001). The public comment for this document was scheduled to end on March 25, 2024. The EPA is extending that deadline to April 24, 2024. This extension will provide the general public additional time for comment.

Dated: March 14, 2024.
Sharyn Lie,
Director, Climate Change Division.

[FR Doc. 2024-05828 Filed 3-19-24; 8:45 am]

BILLING CODE 6560-50-P